DEPARTMENT OF AGRICULTURE

Rural Utilities Service

Brazos Electric Power Cooperative, Inc.: Notice of Availability of an Environmental Assessment

AGENCY: Rural Utilities Service, USDA.

ACTION: Notice of Availability of an Environmental Assessment.

SUMMARY: Notice is hereby given that the Rural Utilities Service, an agency delivering the United States Department of Agriculture (USDA) Rural Development Utilities Programs, hereinafter referred to as Rural Development and/or the Agency, is issuing an Environmental Assessment (EA) in connection with possible impacts related to the construction and operation of a second 500 megawatt combined-cycle combustion turbine generation unit at Brazos Electric Power Cooperative's (Brazos) existing Jack County Plant Site, as proposed by Brazos, of Waco, Texas.

DATES: Written questions and comments on this notice must be received on or before July 14, 2008.

ADDRESSES: To obtain copies of the EA, or for further information, contact: Dennis E. Rankin, Environmental Protection Specialist, USDA Rural Development Utilities Programs, Engineering and Environmental Staff, Stop 1571, 1400 Independence Avenue, SW., Washington, DC 20250-1571, or e-mail: drankin@wdc.usda.gov; Rob Reid, Project Director, PBS&J, 206 Wild Basin Road, Suite 300, Austin, Texas 78746-8342, telephone: (512) 329-8342 or e-mail: rreid@pbsj.com; or David McDaniel, Brazos, 2404 LaSalle Avenue, Waco, Texas 76702-2585, telephone: (254) 750-6324 or e-mail: dmcdaniel@brazoselectric.com. The EA can be reviewed online at the Agency's Web site: http://www.usda.gov/rus/water/ees/ea/htm and at the following locations:

USDA, Rural Development Utilities Programs, 1400 Independence Avenue, Room 2244, Washington, DC 20250;

Brazos Electric Power Cooperative, 2404 La Salle Avenue, Waco, TX 76702;

Wise Electric Cooperative, Corner of Hale & Cowan Streets, Decatur, TX 76234;

Gladys Johnson Ritchie Public Library, 620 West College Street, Jacksboro, TX 76458;

Bridgeport Public Library, 2159 Tenth Street, Bridgeport TX 76426.

SUPPLEMENTARY INFORMATION: Brazos is proposing to construct a second 500 MW gas-fired combined-cycle electric generation unit at its existing Jack County Plant Site on Henderson Ranch Road near the Joplin Community in Jack County, Texas. The project will consist of two combustion turbines and heat recovery steam generators and one steam turbine with a water-cooled steam surface condenser.

PBS&J, an environmental consultant, prepared an EA for Rural Development that describes the project and assesses the proposed plant's environmental impacts. The Agency has conducted an independent evaluation of the EA and believes that it accurately assesses the impacts of the proposed project. No significant impacts are expected as a result of the construction of the project. The EA is available for public review at addresses provided above in the Notice.

Any final action by Rural Development related to the proposed project will be subject to, and contingent upon, compliance with all relevant Federal environmental laws and regulations and completion of environmental review procedures as prescribed by the 7 CFR part 1794, Environmental Policies and Procedures.

Dated: July 8, 2008.
Mark S. Plank,
Director, Engineering and Environmental Staff, USDA/Rural Development Utilities Programs.

[FR Doc. E8-15915 Filed 7-11-08; 8:45 am]

BILLING CODE 3410-15-P